ENVIRONMENTAL PROTECTION AGENCY

[FRL-7967-8]

Clean Water Act Section 303(d): Availability of List Decisions

AGENCY: Environmental Protection Agency (EPA).

ACTION: Notice of availability.

SUMMARY: This action announces the availability of EPA decisions identifying water quality limited segments and associated pollutants in Nevada to be listed pursuant to Clean Water Act Section 303(d)(2), and requests public comment. Section 303(d)(2) requires that states submit and EPA approve or disapprove lists of waters for which existing technology-based pollution controls are not stringent enough to attain or maintain state water quality standards and for which total maximum daily loads (TMDLs) must be prepared.

On September 1, 2005, EPA partially approved and partially disapproved Nevada's 2004 submittal. Specifically, EPA approved Nevada's listing of 205 water body-pollutant combinations, and associated priority rankings. EPA disapproved Nevada's decisions not to list 98 water body-pollutant combinations. EPA identified these additional water bodies and pollutants along with priority rankings for inclusion on the 2004 Section 303(d) list.

EPA is providing the public the opportunity to review its decisions to add waters and pollutants to Nevada 2004 Section 303(d) list, as required by EPA's Public Participation regulations. EPA will consider public comments in reaching its final decisions on the additional water bodies and pollutants identified for inclusion on Nevada's final lists.

DATES: Comments must be submitted to EPA on or before October 13, 2005.

ADDRESSES: Comments on the proposed decisions should be sent to David Smith, TMDL Team Leader, Water Division (WTR-2), U.S. Environmental Protection Agency Region IX, 75 Hawthorne Street, San Francisco, CA 94105, telephone (415) 972-3416, facsimile (415) 947-3537, e-mail smith.davidw@epa.gov. Oral comments will not be considered. Copies of the proposed decisions concerning Nevada which explain the rationale for EPA's decisions can be obtained at EPA Region 9's Web site at http://www.epa.gov/region9/water/tmdl/index.html by writing or calling Mr. Smith at the above address. Underlying documentation comprising the record for these decisions is available for public inspection at the above address.

FOR FURTHER INFORMATION CONTACT: David Smith at (415) 972-3416 or smith.davidw@epa.gov.

SUPPLEMENTARY INFORMATION: Section 303(d) of the Clean Water Act (CWA) requires that each State identify those waters for which existing technology-based pollution controls are not stringent enough to attain or maintain State water quality standards. For those waters, States are required to establish TMDLs according to a priority ranking.

EPA's Water Quality Planning and Management regulations include requirements related to the implementation of Section 303(d) of the CWA (40 CFR 130.7). The regulations require states to identify water quality limited waters still requiring TMDLs every two years. The lists of waters still needing TMDLs must also include priority rankings and must identify the waters targeted for TMDL development during the next two years (40 CFR 130.7).

Consistent with EPA's regulations, Nevada submitted to EPA its listing decisions under section 303(d)(2) on June 2, 2004. Nevada submitted supplemental data and information on July 9, 2005 and August 25, 2005. On September 1, 2005, EPA approved Nevada's listing of 205 water body-pollutant combinations and associated priority rankings. EPA disapproved Nevada's decisions not to list 98 water body-pollutant combinations. EPA identified these additional waters and pollutants along with priority rankings for inclusion on the 2004 section 303(d) list. EPA solicits public comment on its identification of 98 additional water body-pollutant combinations, for inclusion on Nevada's 2004 Section 303(d) list.

Dated: September 1, 2005.
Alexis Strauss,
Director, Water Division, Region IX.

[FR Doc. 05-18093 Filed 9-12-05; 8:45 am]

BILLING CODE 6560-50-P